COMMITTEE FOR THE IMPLEMENTATION OF TEXTILE AGREEMENTS

Establishment of Agreed Import Levels for Certain Cotton, Wool, Man-Made Fiber, Silk Blend and Other Vegetable Fiber Textiles and Textile Products Produced or Manufactured in the People's Republic of China

October 23, 2006.

AGENCY: Committee for the Implementation of Textiles Agreements (CITA).

ACTION: Directive to Commissioner, U.S. Customs and Border Protection (CBP) establishing agreed levels.

EFFECTIVE DATE: January 1, 2007.

FOR FURTHER INFORMATION CONTACT: Ross Arnold, International Trade Specialist, Office of Textiles and Apparel, U.S. Department of Commerce, (202) 482-4212. For information on the quota status of these limits, refer to U.S. Customs and Border Protection website (http://www.cbp.gov), or call (202) 344-2650. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

In the Memorandum of Understanding (MOU) between the Governments of the United States of America and the People's Republic of China concerning Trade in Textile and Apparel Products, signed and dated November 8, 2005, and Paragraph 242 of the Report of the Working Party for the Accession of China to the World Trade Organization, the Governments of the United States and China established agreed levels for certain cotton, wool, man-made fiber, silk blend and other vegetable fiber textiles and textile products, produced or manufactured in China and exported to the United States during three one-year periods beginning on January 1, 2006 and extending through December 31, 2008.

The agreed levels published below may be adjusted during the course of the year for “carryover” or “carryforward” under the terms of the MOU.

Baby socks in HTS numbers 6111.20.6050, 6111.30.5050 and 6111.90.5050 shall be counted in dozen pairs. These baby socks are subject to the quota level for 332/432/632-T and the sublevel for 332/432/632-B but the correct category designation 239 will be required at the time of entry for quota purposes.

In the letter published below, the Chairman of CITA directs the Commissioner, U.S. Customs and Border Protection (CBP), to establish the 2007 limits.

A description of the textile and apparel categories in terms of HTS numbers is available in the CORRELATION: Textile and Apparel Categories with the Harmonized Tariff Schedule of the United States (refer to the Office of Textiles and Apparel website at http://otexa.ita.doc.gov).

Philip J. Martello,
Acting Chairman, Committee for the Implementation of Textile Agreements.

Committee for the Implementation of Textile Agreements

October 23, 2006.

Commissioner,

U.S. Customs and Border Protection, Washington, DC 20229.

Dear Commissioner: Pursuant to the Memorandum of Understanding between the Governments of the United States of America and the People's Republic of China, Concerning Trade in Textiles and Apparel Products, dated November 8, 2005, you are directed to prohibit, effective on January 1, 2007, entry into the United States for consumption and withdrawal from warehouse for consumption of cotton, wool, man-made fiber, silk blend and other vegetable fiber textiles and textile products in the following categories and HTS numbers 6111.20.6050, 6111.30.5050 and 6111.90.5050, produced or manufactured in China and exported during the twelve-month period beginning on January 1, 2007 and extending through December 31, 2007, in excess of the following agreed levels:

Category | Restraint Period
200/301 | 8,659,019 kilograms.
222 | 18,631,460 kilograms.
229 | 38,467,942 kilograms.
332/432/632-T (plus baby socks) ¹. | 73,963,859 dozen pairs, of which not more than 70,318,431 dozen pairs shall be in categories 332/432/632-B (plus baby socks) ².
338/339pt. ³ | 23,424,875 dozen.
340/640 | 7,586,600 dozen.
345/645/646 | 9,201,612 dozen.
347/348 | 22,124,305 dozen.
349/649 | 25,634,144 dozen.
352/652 | 21,317,554 dozen.
359-S/659-S ⁴ | 5,164,454 kilograms.
363 | 116,231,482 numbers.
443 | 1,514,342 numbers.
447 | 241,880 dozen.
619 | 62,222,069 square meters.
620 | 90,221,904 square meters.
622 | 37,104,765 square meters.
638/639pt. ⁵ | 9,067,571 dozen.
647/648pt. ⁶ | 8,955,399 dozen.
666pt. ⁷ | 1,084,516 kilograms.
847 | 19,853,162 dozen.

Baby socks in HTS numbers 6111.20.6050, 6111.30.5050 and 6111.90.5050 shall be counted in dozen pairs for quota purposes. These baby socks are subject to the quota level for 332/432/632-T and the sublevel for 332/432/632-B but the correct category designation 239 will be required at the time of entry for quota purposes.

¹ Categories 332/432/632-T: baby socks: only HTS numbers 6111.20.6050, 6111.30.5050 and 6111.90.5050; within Category 632: only HTS numbers 6115.20.9010, 6115.93.6020, 6115.93.9020, 6115.99.1420 and 6115.99.1820.

² Categories 332/432/632-B: baby socks: only HTS numbers 6111.20.6050, 6111.30.5050 and 6111.90.5050; within Category 632: only HTS numbers 6115.93.6020, 6115.93.9020, 6115.99.1420 and 6115.99.1820.

³ Categories 338/339pt: all HTS numbers except: 6110.20.1026, 6110.20.1031, 6110.20.2067, 6110.20.2077, 6110.90.9067, and 6110.90.9071.

⁴ Category 359-S: only HTS numbers 6112.39.0010, 6112.49.0010, 6211.11.8010, 6211.11.8020, 6211.12.8010 and 6211.12.8020; Category 659-S: only HTS numbers 6112.31.0010, 6112.31.0020, 6112.41.0010, 6112.41.0020, 6112.41.0030, 6112.41.0040, 6211.11.1010, 6211.11.1020, 6211.12.1010 and 6211.12.1020.

⁵ Categories 638/639pt.: all HTS numbers except: 6110.30.2051, 6110.30.2061, 6110.30.3051, 6110.30.3057, 6110.90.9079, and 6110.90.9081.

⁶ Categories 647/648pt.: all HTS numbers except 6203.43.3510, 6204.63.3010, 6210.40.5031, 6210.50.5031, 6211.20.1525 and 6211.20.1555.

⁷ Category 666pt.: only HTS numbers 6303.12.0010 and 6303.92.2030.

The agreed levels set forth above are subject to adjustment pursuant to the current MOU between the Governments of the United States and China.

Products in the above categories and HTS numbers 6111.20.6050, 6111.30.5050, and 6111.90.5050 exported during 2006 shall be charged to the applicable category limits for that year (see directive dated December 13, 2005) to the extent of any unfilled balances. In the event the limits established for that period have been exhausted by previous entries, such products shall be charged to the limits set forth in this directive.

Sincerely,

Philip J. Martello,

Acting Chairman, Committee for the Implementation of Textile Agreements.

[FR Doc. E6-18053 Filed 10-26-06; 8:45 am]

BILLING CODE 3510-DS-S